DEPARTMENT OF LABOR

Employment and Training Administration

[TA-W-58,485]

Rawlings Sporting Goods Company; A Subsidiary of K2 Inc., Licking, Missouri; Notice of Affirmative Determination Regarding Application for Reconsideration

By application of January 10, 2006, a petitioner requested administrative reconsideration of the Department of Labor's Notice of Negative Determination Regarding Eligibility to Apply for Worker Adjustment Assistance, applicable to workers of the subject firm. The Department's negative determination was issued on December 27, 2005. The Notice of determination published in the Federal Register on January 17, 2006 (71 FR 2568).

The request for reconsideration alleged that the subject worker group supports production at an affiliated facility and that production is shifting from that facility to a foreign facility. Rawlings Sporting Goods Co., Inc., Licking, Missouri was previously certified for Trade Adjustment Assistance (TAA) under TA-W-50,065 (issued December 16, 2002). The petitioners also allege that those circumstances which supported the previous certification still exist and infer that they should be used to support certification in the immediate petition.

The Department carefully reviewed the petitioner's request for reconsideration and has determined that the Department will conduct further investigation based on new information provided by the petitioner and the company official.

Conclusion

After careful review of the application, I conclude that the claim is of sufficient weight to justify reconsideration of the Department of Labor's prior decision. The application is, therefore, granted.

Signed at Washington, DC, this 2nd day of February 2006.
Elliott S. Kushner,
Certifying Officer, Division of Trade Adjustment Assistance.

[FR Doc. E6-1915 Filed 2-9-06; 8:45 am]

BILLING CODE 4510-30-P